ENVIRONMENTAL PROTECTION AGENCY

40 CFR Part 52

[EPA-R07-OAR-2014-0602; FRL-9921-08-Region-7]

Approval and Promulgation of Air Quality Implementation Plans; Missouri; Withdrawal of Direct Final Rule, Controlling Emissions During Episodes of High Air Pollution Potential

AGENCY: Environmental Protection Agency.

ACTION: Withdrawal of direct final rule.

SUMMARY: Due to an adverse comment, the Environmental Protection Agency (EPA) is withdrawing the direct final rule to approve a revision submitted by the State of Missouri and received by EPA on December 17, 2013, pertaining to Missouri's rule “Controlling Emissions During Episodes of High Air Pollution Potential.” In the direct final rule published on November 4, 2014 (79 FR 65346), we stated that if we received adverse comment by December 4, 2014, the rule would be withdrawn and not take effect. EPA subsequently received an adverse comment. EPA will address the comment received in a subsequent final action based upon the proposed action also published on November 4, 2014, (79 FR 65362). EPA will not institute a second comment period on this action.

DATES: The direct final rule published at 79 FR 65346, November 4, 2014, is withdrawn effective December 30, 2014.

FOR FURTHER INFORMATION CONTACT: Amy Bhesania, Environmental Protection Agency, Air Planning and Development Branch, 11201 Renner Boulevard, Lenexa, Kansas 66219, at telephone number (913) 551 7147 or by email at bhesania.amy@epa.gov.

SUPPLEMENTARY INFORMATION: Due to an adverse comment, the Environmental Protection Agency (EPA) is withdrawing the direct final rule to approve a revision submitted by the State of Missouri and received by EPA on December 17, 2013, pertaining to Missouri's rule “Controlling Emissions During Episodes of High Air Pollution Potential.” In the direct final rule published on November 4, 2014 (79 FR 65346), we stated that if we received adverse comment by December 4, 2014, the rule would be withdrawn and not take effect. EPA subsequently received an adverse comment. EPA will address the comment received in a subsequent final action based upon the proposed action also published on November 4, 2014, (79 FR 65362). EPA will not institute a second comment period on this action.

List of Subjects in 40 CFR Part 52

Environmental protection, Air pollution control, Carbon monoxide, Incorporation by reference, Intergovernmental relations, Lead, Nitrogen dioxide, Ozone, Particulate matter, Reporting and recordkeeping requirements, Sulfur oxides, Volatile organic compounds.

Dated: December 15, 2014.
Mark J. Hague,
Acting Regional Administrator, Region 7.

[FR Doc. 2014-30389 Filed 12-29-14; 8:45 am]

BILLING CODE 6560-50-P